DEPARTMENT OF LABOR

Employment and Training Administration

Workforce Investment Act—Indian and Native American Employment and Training Programs; Solicitation for Grant Applications—Final Grantee Designation Procedures for Program Years 2004 and 2005

Announcement Type: New. Notice of final designation procedures for grantees.

Funding Opportunity Number: SGA/DFA-04-100.

Catalog of Federal Domestic Assistance (CFDA) Number: 17.265.

Key Dates: Deadline for Notice of Intent Part A—January 30, 2004.

I. Funding Opportunity Description

Section 166 of the Workforce Investment Act (WIA) authorizes programs to serve the employment and training needs of Indians and Native Americans through competitive award by the Department of Labor (DOL) of two-year grants, contracts, or cooperative agreements with Indian tribes, tribal organizations, Alaska Native entities, Indian-controlled organizations serving Indians, or Native Hawaiian organizations. See section 166, Public Law 105-220 as amended, codified at 29 U.S.C. 2911. Special employment and training services for Indian and Native American people were previously provided under the Job Training Partnership Act (JTPA) Section 401 and its predecessor, Section 302 of the Comprehensive Employment and Training Act (CETA). DOL has issued two previous rounds of WIA section 166 awards—for Program Years (PY) 2000-2001 and 2002-2003.

In anticipation of Congressional reauthorization of WIA, this Solicitation for Grant Applications (SGA) contains the procedures by which DOL will select and designate service providers for PY 2004 and 2005 (July 1, 2004 to June 30, 2006) to operate Indian and Native American Employment and Training Programs under WIA section 166 within specified “service areas.” Grantees must ensure that all eligible population members have equitable access to employment and training services within the service area. Requirements for these programs are set forth in WIA section 166 and its regulations, found at 20 CFR part 668, published at 65 FR 49294, 49435 (August 11, 2000). The specific eligibility and application requirements for designation are set forth at 20 CFR part 668, subpart B, which is attached to this SGA as Exhibit A.

Under the statutory and regulatory requirements, DOL will select entities for section 166 funding for a two-year period. Designated service providers will be funded annually during the designation period, contingent upon all other grant award requirements being met, Congress' reauthorization of WIA, any new or modified terms of WIA reauthorization, and the continuing availability of Federal funds.

All applicants for designation as a section 166 service provider for PY 2004 and 2005 must submit a Notice of Intent Part A in accordance with this SGA if they wish to receive or continue to receive WIA funds. DOL has determined that no waivers of competition under WIA section 166(c)(2) will be available for the current two-year designation cycle because such waivers were allowed in the last designation cycle for PY 2002 and 2003. Existing grantees and potential eligible providers participating in Public Law 102-477 Demonstration Projects, which allow Federally recognized tribes to consolidate formula-funded employment, training, and related dollars under a single service plan administered by the Bureau of Indian Affairs, also must submit an application in accordance with this SGA.

This SGA provides the information that all applicants need to submit requests for WIA section 166 designation. A “responsibility review” will be conducted of all applications as part of the designation process, in accordance with 20 CFR 667.170, 668.220, and 668.230, to ensure that applicants are capable of properly handling and accounting for Federal funds. Entities new to this process should be aware that being designated as a section 166 service provider according to this SGA will not automatically result in a grant award. Entities that successfully complete the designation process, including winning any competition(s) for service area(s) that may occur as defined in this SGA, must prepare a two-year Comprehensive Services Plan that must be approved by DOL. Instructions for preparation of the Comprehensive Services Plan will be issued to all designated service providers in accordance with 20 CFR part 668, subpart G.

Potential applicants should be aware that Comprehensive Services Plans for PY 2004 and 2005 will be required to include an agreement to maintain records adequate to evaluate the grantee's annual performance against the “Common Measures” from the U.S. Office of Management and Budget (OMB) for evaluating all Federally funded employment and training programs. See Employment and Training Administration (ETA) Training and Employment Notice No. 8-02 (March 27, 2003) (available at http://ows.doleta.gov/dmstree/ten/ten2k2/ten_08-02.htm). The Comprehensive Services Plan also will be required to include estimates of expected grantee performance against the OMB Common Measures. For the Comprehensive Services (i.e., Indian “adult”) employment and training program, the Common Measures are as follows:

• Entered Employment

• Retention in Employment

• Earnings Increase

• Program Efficiency

For those entities serving reservation areas and qualifying for Supplemental Youth Services funding, the “youth” Common Measures are as follows:

• Placement in Employment or Education

• Attainment of a Degree or Certificate by Participants

• Literacy and Numeracy Gains (by Participants)

• Program Efficiency

After a section 166 designee's Comprehensive Services Plan is approved by DOL, a grant agreement (“Notice of Obligation” or NOO) must be executed in accordance with 20 CFR 668.292. Each NOO will reflect the amount of section 166 funds awarded as determined in accordance with 20 CFR 668.296 and 668.440.

In preparing applications for designation, applicants should bear in mind that the purpose of section 166 of WIA is “to support employment and training activities for Indian, Alaska Native, and Native Hawaiian individuals in order—

“(A) to develop more fully the academic, occupational, and literacy skills of such individuals;

“(B) to make such individuals more competitive in the workforce; and

“(C) to promote the economic and social development of Indian, Alaska Native, and Native Hawaiian communities in accordance with the goals and values of such communities.” Congress has also directed that section 166 programs be administered consistent with the principles of the Indian Self-Determination and Education Assistance Act, 25 U.S.C. 450, et seq., and the government-to-government relationship between the Federal government and Indian tribal governments. WIA section 166(a)(2).

Note: Congress is now considering legislation to reauthorize WIA; statutory changes may necessitate revision of the designation or award procedures for PY 2004-2005. This SGA has been revised from prior SGAs under WIA section 166 to comply with the new standard format issued by OMB for Federal grant solicitations. See 68 FR 37370-79 (June 23, 2003). The “General Designation Principles” included in prior SGAs for this program have been omitted because we have determined that inclusion of the actual regulatory text (see Exhibit A attached) will be more useful to potential applicants.

II. Award Information

Type of assistance instrument: An initial two-year grant, which may be extended for an additional two years under appropriate circumstances.

As stated in Section I, no waivers of competition are available for the PY 2004-2005 grant cycle. Therefore applications for new awards may compete with applications from existing grantees or for supplementation of existing projects. The amount of WIA Section 166 funds to be awarded to designated Native American organizations will be determined under the procedures set by 20 CFR 668.296, as well as by § 668.440 for youth funds. DOL will determine award amounts after designation of service areas and service providers and once funding appropriations for the grant period have been made by Congress.

Amount of funds to be awarded. Depending upon final appropriation legislation, DOL anticipates awarding approximately $55 million for the Comprehensive Services program and $15 million for Supplemental Youth Services under this SGA.

Anticipated number of awards. Approximately 190 grantees will be designated under this SGA.

Expected amounts of individual awards. Awards under the Comprehensive Services program are anticipated to range from approximately $20,000 to approximately $6.5 million. Awards for the Supplemental Youth Services program are anticipated to range from approximately $4,000 to approximately $2.5 million. Final award amounts in each category will depend on Census data and the final PY 2004 and PY 2005 appropriation levels.

Average amount of funding per award. For PY 2003, the average Comprehensive Services grant amount was $295,647, and the average Supplemental Youth Services grant amount was $102,170. We expect that average funding for the PY 2004 awards will not differ significantly from these amounts.

Anticipated start dates and periods of performance for new awards. New and existing grantees will be expected to commence operations on July 1, 2004. The initial performance period for all grantees will be from July 1, 2004 to June 30, 2006.

III. Eligibility Information

1. Eligible Applicants

To be eligible for designation as a Section 166 grantee, an entity must meet all eligibility requirements of WIA Section 166 and 20 CFR 668.200, as well as the application and designation requirements found at 20 CFR part 668, subpart B (see Exhibit A attached). Potential applicants are expected to thoroughly review and comply with the statute and regulations.

Among other requirements, eligible entities must have a legal status as a government, an agency of a government, a private non-profit corporation (i.e., incorporated under IRS section 501(c)(3) or 501(c)(4)), or a consortium that satisfies the requirements of 20 CFR 668.200(a), (b), and (c)(6). Additionally, eligible entities must be:

• Indian tribes, tribal organizations, Alaska Native entities, Indian-controlled organizations serving Indians, or Native Hawaiian organizations;

• Consortia of eligible entities; or

• State-recognized tribal organizations serving individuals who were eligible to participate under JTPA Section 401 as of August 6, 1998.

See WIA Sections 166(b), (c)(1), and (d)(2)(B); 20 CFR 668.200(c) and (d). Community and faith-based organizations are eligible to apply for Section 166 grants in accordance with WIA Section 166(c) and 20 CFR 668.200(c) and (d) if they are Native American- or Native Hawaiian-controlled. Non-profit corporations organized under 501(c)(4) that engage in lobbying activities are not eligible to receive Federal funds and grants, as required by Section 18 of the Lobbying Disclosure Act of 1995, Public Law 104-65 (2 U.S.C. 1611).

Additional key requirements include the following: Applicants must satisfy a responsibility review and demonstrate that they have the ability to administer Federal funds. See 20 CFR 667.170, 668.200(a)(2), 668.220, and 668.230. Requested geographic service areas must comply with eligibility restrictions based on the formula funding level associated with population size. See 20 CFR 668.200(a)(3), 668.296(b), and 668.440(a).

The statute and regulations also establish comparative priorities for designation among eligible entities. A Federally recognized Indian tribe, band, or group on its reservation (including former reservation areas in Oklahoma), and Alaska Native entities defined in the Alaska Native Claims Settlement Act (ANCSA) (or consortia that include a tribe or an ANCSA entity) will receive the highest priority over any other organization for designation as the service provider for the area over which the entity has legal jurisdiction, provided that the entity has the capability to administer the program and also meets all eligibility and regulatory requirements. See 20 CFR 668.210(a). For areas not covered by the highest priority, DOL will designate other eligible organizations as service providers, which in some instances might be Indian tribes, bands, or groups applying for off-reservation areas. DOL will follow the regulatory procedures for consultation and communication with Native American leaders in affected service areas. See 20 CFR 668.210 and 668.280. New applicants (and incumbent grantees seeking designation for areas in addition to those covered by existing grants) are expected to clearly demonstrate a working knowledge of the community that they plan to serve, including available resources, resource utilization, and acceptance by the service population.

Applicants must submit a separate, complete Notice of Intent in accordance with Section IV(2) for each non-contiguous geographic area for which they seek designation. DOL is not required to adhere to the geographical service area requested in a Notice of Intent, but may make a section 166 designation for all of the area requested or, if acceptable to the designee, a portion of the area requested or more than the area requested.

Organizations with no prior grant history with the Department, or about whom there are financial or grant management concerns, may be conditionally designated pending an on-site review and/or a six-month assessment of program progress. Failure to satisfy these conditions may result in a withdrawal of designation.

As discussed in Section IV(2), applicants' Notice of Intent submission must include documentation supporting their eligibility to serve as a section 166 grantee, including documentation of their legal status and ability to administer funds.

The following definitions and special designation situations will be used by DOL in determining eligibility and designating section 166 service providers:

Indian or Native American-Controlled Organization. In accordance with WIA section 166(c) and 20 CFR 668.200(c), an Indian or Native American-controlled organization is defined as any organization with a governing body, more than 50 percent of whose members are Indians or Native Americans. Such an organization can be a tribal government, Native Alaska, or Native Hawaiian entity, consortium, or public or private non-profit agency. For the purpose of designation determinations, the governing body must have decision-making authority for the WIA section 166 program. It should be noted that, under WIA section 166(d)(2)(B), individuals who were eligible to participate under section 401 of JTPA on August 6, 1998, are or will be eligible to participate under WIA. Organizations serving such individuals will be considered “Indian controlled” for WIA section 166 purposes if they meet the criteria of this section.

Service Area. Service Area is defined as the geographic area, described as States, counties, or reservations, or parts or combinations thereof, for which a section 166 designation is made. In some cases, a service area also will be defined in terms of the specific population to be served. The service area is identified by the Grant Officer in the formal designation letter. Grantees must ensure that all eligible population members have equitable access to employment and training services within their designated service area. See 20 CFR 668.650(a).

Service Areas for Alaska Native Entities. Through prior grant competitions, DOL has established geographic service areas for Alaska Native employment and training grantees based on the following: (a) The boundaries of the regions defined in the Alaska Native Claims Settlement Act (ANCSA); (b) the boundaries of major sub-regional areas where the primary provider of human resource development-related services is an Indian Reorganization Act (IRA)-recognized tribal council; and (c) the boundaries of the one Federal reservation in Alaska. These service areas may be modified as a result of the current grant competition. Within these established or revised geographic service areas, DOL will designate the primary Alaska Native-controlled human resource development services provider or an entity formally selected by that provider. In the past, these entities have been regional non-profit corporations, IRA-recognized tribal councils, and the tribal government of the Metlakatla Indian Community.

Service Areas for Oklahoma Indians. Through prior grant competitions, DOL has established geographic service areas for Indian employment and training programs in Oklahoma, which have generally been countywide areas. These service areas may be modified as a result of the current grant competition. In cases in which a significant portion of the land area of an individual county lies within the traditional jurisdiction(s) of more than one tribal government, the service area has been subdivided to a certain extent on the basis of tribal identification information contained in the most recent Federal Decennial Census of Population. Wherever possible, arrangements mutually satisfactory to grantees in adjoining or overlapping geographic service areas will be honored by DOL. Where such mutually satisfactory arrangements cannot be made, DOL will designate and assign service areas to Native American grantees in a manner that is consistent with WIA and that will preserve continuity of services and prevent unnecessary fragmentation of the programs.

2. Cost Sharing or Matching

The section 166 program does not require grantees to share costs or provide matching funds.

3. Other Eligibility Criteria

In accordance with 29 CFR part 98, entities that are debarred or suspended shall be excluded from Federal financial assistance and are ineligible to receive a section 166 grant. Additionally, entities that have been convicted of violation of 18 U.S.C. 665 and/or 666, or that are in default of any debt repayment agreement signed with the Department or any Federal agency, are ineligible to receive an award under this SGA, unless exceptional circumstances are demonstrated to the satisfaction of DOL.

All recipients of services under section 166 must meet the definition of Indian, Alaska Native, or Native Hawaiian found at WIA section 166(b) and in the WIA regulations. See WIA section 166(d) and 20 CFR 668.300. In addition, priority of services must be given to veterans and spouses of certain veterans, in accordance with the provisions of the “Jobs for Veterans Act,” Public Law 107-288 (38 U.S.C. 4215), which provides priority of service to veterans and spouses of certain veterans for the receipt of employment, training, and placement services in any job training program directly funded, in whole or in part, by the Department of Labor. Please note that, to obtain priority of service, a veteran must meet the program's eligibility requirements. ETA Training and Employment Guidance Letter (TEGL) No. 5-03 (September 16, 2003) provides general guidance on the scope of the veterans priority statute and its effect on current employment training programs. DOL anticipates updating this guidance at the time of WIA reauthorization and issuing individual guidance on each affected employment training program.

IV. Application and Submission Information

1. Address To Request Application Package

This Solicitation for Grant Applications, together with the attached excerpt of regulations (20 CFR part 668, subpart B), includes all information needed to apply for designation as a section 166 service provider.

2. Content and Form of Application Submission

All applicants for designation as a section 166 service provider for PY 2004 and 2005, except as noted in the next sentence, must submit a signed original and two copies of a “Notice of Intent—Part A” containing the information listed below. Incumbent Federally recognized tribes participating in the demonstration under Public Law 102-477 whose status has not changed need only submit: a cover letter stating the program's status has not changed, and a completed SF-424, “Application for Federal Assistance,” both signed by an authorized signatory official for the applicant. Note that a separate Notice of Intent—Part A must be submitted for each non-contiguous geographic service area.

Beginning October 1, 2003, all applicants for Federal grant and funding opportunities are required to have a Dun and Bradstreet (DUNS) number. See OMB Notice of Final Policy Issuance, 68 FR 38402 (June 27, 2003). Applicants for section 166 designation must supply their DUNS number in item #5 of the new SF-424 issued by OMB (Rev. 9-2003). See Exhibit B. Where a consortium is formed to apply for designation, the consortium must obtain a DUNS number. If award will be made to the lead entity in the consortium, then the DUNS number for that lead entity should be used. The DUNS number is a nine-digit identification number that uniquely identifies business entities. Obtaining a DUNS number is easy and there is no charge. To obtain a DUNS number, access the following Web site: http://www.dunandbradstreet.com or call 1-866-705-5711. Requests for exemption from the DUNS number requirement must be made to OMB.

In some circumstances, as defined in Section V(2), DOL may determine based on review of the Part A submissions that further competition is required for a particular geographic area. In these instances, competing organizations will be notified and required to provide the information in Part B within 15 days of receiving notification from the Grant Officer of competition.

The Grant Officer may require additional or clarifying information or action, including a site visit, before designating applicants and/or before determining whether to conduct competitive procurement for a particular geographic service area. In addition, applicants may be required to address actions taken to correct deficiencies identified by the Department, including specific time frames for completion.

A. Notice of Intent—Part A Requirements

Each application must include a cover letter or other document (for example, a tribal resolution), signed by an authorized signatory official, that provides the information listed below or indicates that it accompanies the application.

(i) A completed SF-424, “Application for Federal Assistance,” signed by the authorized signatory official. See Exhibit B.

(ii) Identification of the applicant's legal status, including copies of articles of incorporation for non-profit corporations or consortium agreement, if not already on file with DOL's Division of Indian and Native American Programs (DINAP).

(iii) A specific description of the geographic territory being applied for by State(s), counties, reservation(s), or subparts or combinations thereof, and/or by service population.

(iv) A very brief summary of the employment and training or human resource development program(s) serving Native Americans that the entity currently operates or has operated within the previous two-year period. The summary should identify the funding source, contact person, and phone number for the program(s).

(v) A brief description of the planning process used by the entity, including involvement of the governing body and local employers.

(vi) Evidence to establish an entity's ability to administer funds under 20 CFR 668.220, and 668.230, which should at a minimum include:

(a) A statement that the organization is in compliance with the Department's debt management procedures; and

(b) A statement that fraud or criminal activity has not been found in the organization, or a brief description of the circumstance where fraud or criminal activity has been found and a description of resolution, corrective action and current status; and

(c) A narrative demonstrating that an entity has or can acquire the necessary program and management personnel to safeguard Federal funds and effectively deliver program services that support the purposes of the Workforce Investment Act; and

(d) If not otherwise provided, a narrative demonstrating that an entity has successfully carried out or has the ability to successfully carry out activities that will strengthen the ability of the individuals served to obtain or retain unsubsidized employment, including the past two-year history of publicly funded grants/contracts administered including identification of the fund source and a contact person.

(vii) The assurances required by 29 CFR 37.20.

B. Notice of Intent—Part B Requirements

If the Grant Officer determines that there is competition for all or part of a given service area, as discussed in Section V(2) below, the Grant Officer will notify competing applicants and require submission of the following “Part B” information:

(i) Evidence that the entity represents the community proposed for services such as: Demonstration of support from Native American-controlled organizations, State agencies, or other entities with specific knowledge of the applicant's operational capability. Federally recognized tribes and Hawaiian and Alaska Native entities need not submit evidence of support regarding their own reservations or areas of legal jurisdiction. However, such entities are required to provide this evidence for any area that they wish to serve beyond their reservation boundaries, Congressionally mandated area, or Federally established service areas.

(ii) Submission of a service plan and other information expanding on the information required at Part A that the applicant feels can strengthen its case, including information on any unresolved or outstanding administrative problems.

An applicant whose initial Notice of Intent submission contained all Part B information will not need to supplement. Exclusive of charts, graphs, or letters of support, the additional Part B information submitted in a situation involving competition should not exceed 75 pages of double-spaced, unreduced type.

3. Submission Dates and Times

Notices of Intent (NOIs) that comply with the requirements of this solicitation and that satisfy all Part A requirements must be received in the Department by 1 p.m. on January 30, 2004. NOIs not received by the deadline will be accepted up to 15 calendar days after the deadline only with an official, U.S. Postal Service postmark indicating timely submission. Dates stamped by private express delivery service or by metered mail are unacceptable as proof of submission. All applicants are advised that U.S. mail delivery in the Washington, DC area is still erratic due to continuing concerns involving possible anthrax contamination. All applicants must take this into consideration when preparing to meet the application deadline, as applicants assume the risk for ensuring a timely submission; that is, if because of these mail problems, the Department does not receive an application or receives it too late to give it proper consideration, even if it was timely mailed, the Department will not consider the application.

Submission addresses and acceptable means of delivery are addressed in Section IV(6) below.

4. Intergovernmental Review

This funding opportunity is not subject to Executive Order (EO) 12372, “Intergovernmental Review of Federal Programs.”

5. Funding Restrictions

Potential applicants should review 20 CFR part 668, subpart H regarding administrative requirements for WIA section 166 grants. Rules relating to allowable costs are addressed in 20 CFR 667.200 through 667.220. Under 20 CFR 667.210(b), limits on administrative costs will be negotiated with the grantee and identified in the grant award document. While there are no specific limits on indirect costs, the amount of indirect cost charged to the grant is subject to the overall limitation on administrative costs as negotiated in the grant agreement. Construction (as opposed to maintenance and/or repair) costs are generally not allowed under WIA. Certain pre-award costs may be allowable with specific approval of the Grant Officer in accordance with OMB Circular A-87 or A-122.

6. Other Submission Requirements

Means of Delivery: Notices of Intent may be submitted by U.S. mail, overnight delivery, hand delivery, or e-mail in accordance with the instructions below. Please note that faxed applications will not be accepted.

Addresses: Send a signed original and two copies of the Notice of Intent—Part A (and any later submissions) to Ms. Athena Brown, Acting Chief, Division of Indian and Native American Programs, Room S-5206 FPB ATTN: MIS Desk, U.S. Department of Labor, 200 Constitution Avenue, NW., Washington, DC 20210.

Submission of Notice of Intent Via E-Mail: Due to the erratic mail delivery in the Washington, DC area, applicants have the option of submitting Notices of Intent via e-mail to cesario.laura@dol.gov. Due to the high volume of applications, the return receipt option (instructions below) must be utilized to verify e-mail transmission of the application. Should the applicant choose to e-mail the Notice of Intent, the applicant must send via overnight mail: the signature sheet with an original signature; a copy of the applicant's e-mail; and a copy of the e-mail verification of transmission. Notices of Intent sent by e-mail will be accepted in Microsoft WORD or WordPerfect only.

Instructions for Obtaining E-Mail Return Receipt: While in the e-mail and before sending, click on “file,” go to “properties, return notification,” and finally click on options for “Delivery receipt requested,” “Read receipt requested,” or similar options that will send the e-mail author an automatic e-mail when the e-mail is either delivered to DOL or opened by DOL. You should print and retain a copy of your e-mail receipt and send a copy of the receipt to DOL per the previous paragraph.

For Further Information Contact: We recommend that you confirm DOL's receipt of your submission by contacting Ms. Andrea T.B. Brown, U.S. Department of Labor, Division of Indian and Native American Programs, telephone number (202) 693-3736 (this is not a toll-free number).

V. Application Review Information

1. Application Evaluation Criteria

The factors listed below will be considered in evaluating applicants' approach to providing services and their ability to produce the best outcomes for the individuals residing in the service area.

Factors | Maximum allowable points
A. (i) Previous experience or demonstrated capabilities in successfully operating an employment and training program established for and serving Indians and Native Americans. | 30
(ii) Previous experience in operating or coordinating with other human resources development programs serving Indians and Native Americans. | 10
(iii) Approach to providing services, including identification of the training and employment problems and needs in the requested area, and approach to addressing such needs. | 10
B. Demonstration of the ability to maintain continuity of services to Indian or Native American participants consistent with those previously provided in the community. | 10
C. (i) Description of the entity's planning process and demonstration of involvement with the INA community. | 5
(ii) Demonstration of involvement with local employers within the service area, and with local Workforce Investment Boards and Youth Councils, etc. | 5
D. Demonstration of coordination and linkages with Indian and non-Indian employment and training resources within the community, including, but not limited to, community and/or faith-based organizations, and One-Stop systems (as applicable), to eliminate duplication of effort. | 15
E. Demonstration of support and recognition by the Native American community and service population, including local tribes and adjacent Indian organizations and the client population to be served. | 15
Total | 100

2. Review and Selection Process

This section identifies the overall review process and the procedures that DOL will use when a competitive grantee designation process is appropriate.

Overall Review Process. DOL's Division of Indian and Native American Programs (DINAP), with the concurrence of the Grant Officer, will conduct an initial review of all submissions for section 166 designation for compliance with the statute, regulations, and this SGA. The initial review will consider, among other things, timeliness and completeness of submission, applicant eligibility, eligibility of the requested service area and population, and application of the WIA regulations at 20 CFR 668.210 regarding priority designation for Native American, Alaskan, and Hawaiian organizations. The review will include compliance with financial responsibility criteria, in accordance with 20 CFR 668.220 and 668.230, to ensure that applicants are capable of properly handling and accounting for Federal funds.

Organizations with no prior grant history with the Department, or about whom there are financial or grant management concerns, may be conditionally designated pending an on-site review and/or a six-month assessment of program progress. Failure to satisfy such conditions may result in a withdrawal of designation.

The Grant Officer is not required to adhere to the geographical service area requested in a Notice of Intent. The Grant Officer may make the designation applicable to all of the area requested or, if acceptable to the applicant, a portion of the area requested or more than the area requested.

Competitive Selection Procedures. If two or more eligible entities apply to provide section 166 services in the same geographic area and no applicant is entitled to priority designation under 20 CFR 668.210, then a competitive selection will be made following the procedures in this section. When competitive selection is necessary, DINAP will notify each applicant of the competing Notices of Intent no later than 45 days after publication of this SGA in the Federal Register, and invite the competing applicants to submit the supplemental “Part B” Notice of Intent and any additional information that the applicant determines is appropriate. To be considered, the Part B information and any additional information must be received by the Chief of DINAP or be postmarked no later than 15 days after the applicant is notified of the competition.

Where competitive evaluation is required, the Grant Officer will use a formal panel review process to score the information submitted with the complete Notice of Intent (Part A and B), using the criteria listed in Section V(1). The review panel will include individuals with knowledge of or expertise in programs dealing with Indians and Native Americans. The purpose of the panel is to review and evaluate an organization's potential, based on its application (including the supplemental information required in Part B), to provide services to a specific Native American community, to rate the proposals in accordance with the rating criteria described in Section V(1), and to make recommendations to the Grant Officer. The panel will be provided the information described in the Notice of Intent.

It is DOL's policy that no information affecting the panel review process will be solicited or accepted after the deadlines for receipt of applications set in this SGA. All submitted information must be in writing. This policy does not preclude the Grant Officer from requesting additional information independent of the panel review process.

During the review, the panel will not give weight to undocumented assertions. Any information must be supported by adequate and verifiable documentation, e.g., supporting references must contain the name of the contact person, an address, and telephone number. Panel ratings and recommendations are advisory to the Grant Officer.

Determination of Designation. The Grant Officer will make the final determination of section 166 designees and of the geographic service area for which each designation is made. In accordance with 20 CFR 668.250(b)(4), the Grant Officer will select the entity that demonstrates the ability to produce the best outcomes for its customers, based on all available evidence. In addition to considering the review panel's rating in those instances in which a panel is convened, the Grant Officer will consider input from DINAP, other offices within the Employment and Training Administration, and the DOL Office of the Inspector General, and any other available information regarding applicants' financial capability, operational capability, and responsibility. The Grant Officer need not designate an entity for every geographic area. See 20 CFR 668.294. If there are services areas for which no entity submitted a complete Notice of Intent or for which no entity achieved a score of at least 70, the Grant Officer may either designate no service provider or may designate an entity based on demonstrated capability to provide the best services to the client population. DOL reserves the right to select applicants with scores lower than 70 or lower than competing applications if such selection would, in DOL's judgment, result in the most effective and appropriate combination of services to the client population, funding, and costs.

An applicant for section 166 designation that is refused such designation, in whole or in part, will be afforded the opportunity to appeal non-designation as provided at 20 CFR 668.270.

3. Anticipated Announcement and Award Dates

If at all possible, designation decisions will be made by March 1, 2004.

VI. Award Administration Information

1. Award Notices

The Grant Officer, Ms. Laura Cesario, will notify section 166 applicants of designation results as follows:

Designation Letter. The designation letter signed by the Grant Officer will serve as official notice of an organization's designation. The designation letter will include the geographic service area for which the designation is made.

Conditional Designation Letter. Conditional designations will include identification of the geographic service area, the nature of the conditions, actions required for the designee to achieve full designation status, and the time frame in which such actions must be accomplished.

Non-Designation Letter. Any organization not designated, in whole or in part, for a requested geographic service area will be notified formally of the non-designation and given the basic reasons for the determination.

Notification by a person or entity other than the grant officer that an organization has been designated is not valid.

2. Administrative and National Policy Requirements

Grantees must comply with the provisions of WIA and its regulations, including those parts focused specifically on programs for Indians and Native Americans. As referenced in Section IV(2), Notices of Intent must provide assurances of compliance with nondiscrimination and equal opportunity laws, as listed in 29 CFR 37.20. Additionally, all grants will be subject to the following administrative standards and provisions, if applicable to the particular grantee:

• 20 CFR part 667—Administrative provisions under Title I of WIA

• 29 CFR parts 30, 31, 32, 33 and 36—Equal Employment Opportunity in Apprenticeship and Training; Nondiscrimination in Federally Assisted Programs of the Department of Labor—Effectuation of Title VI of the Civil Rights Act of 1964; Nondiscrimination on the Basis of Handicap in Programs or Activities Conducted by the Department of Labor; and Nondiscrimination on the Basis of Sex in Education Programs Receiving or Benefiting from Federal Financial Assistance

• 29 CFR part 37—Implementation of the Nondiscrimination and Equal Opportunity Provisions of the Workforce Investment Act of 1998 (WIA)

• 29 CFR part 93—Lobbying

• 29 CFR part 95—Uniform Administrative Requirements for Grants and Agreements with Institutions of Higher Education, Hospitals, and Other Non-Profit Organizations, and with Commercial Organizations

• 29 CFR part 96—Federal Standards for Audit of Federally Funded Grants, Contracts, and Agreements

• 29 CFR part 97—Uniform Administrative Requirements for Grants and Cooperative Agreements to State and Local Governments

• 29 CFR part 98—Governmentwide Debarment and Suspension (Non-Procurement) and Governmentwide Requirements for Drug-Free Workplace (Grants)

• 29 CFR part 99—Audit of States, Local Governments, and Non-Profit Organizations

In accordance with WIA Section 195(6) and 20 CFR 668.630(f), programs funded under this SGA may not involve political activities. Additionally, in accordance with Section 18 of the Lobbying Disclosure Act of 1995, Public Law 104-65 (2 U.S.C. 1611), non-profit entities incorporated under 501(c)(4) that engage in lobbying activities are not eligible to receive Federal funds and grants. Further, this program is subject to the provisions of the “Jobs for Veterans Act,” Public Law 107-288, which provides priority of service to veterans and spouses of certain veterans for the receipt of employment, training, and placement services in any job training program directly funded, in whole or in part, by the Department of Labor. Please note that, to obtain priority of service, a veteran must meet the program's eligibility requirements. ETA Training and Employment Guidance Letter (TEGL) No. 5-03 (September 16, 2003) provides general guidance on the scope of the veterans priority statute and its effect on current employment training programs. DOL anticipates updating this guidance at the time of WIA reauthorization and issuing individual guidance on each affected employment training program.

3. Reporting

Section 166 grantees will be required to submit reports on financial expenditures, program participation, and participant outcomes on no more than a quarterly basis. Grantees are encouraged to file reports electronically, but they may also be submitted in paper form. As reflected in Section I, reporting requirements will be modified for PY 2004-2005 to incorporate OMB Common Measures and will include evaluation of the Grantee's annual performance against those Common Measures. Current reporting requirements for section 166 grants are found at 20 CFR part 668, subpart F.

VII. Agency Contacts

Programmatic questions regarding this SGA can be directed to: Mr. Greg Gross, Division of Indian and Native American Programs, Room S-5206 FPB ATTN: MIS Desk, U.S. Department of Labor, 200 Constitution Avenue, NW., Washington, DC 20210; e-mail: gross.gregory@dol.gov; 202-693-3752; FAX: 202-693-3818.

Grant and administrative questions can be directed to: Ms. Serena Boyd, Grants Management Specialist; e-mail: boyd.serena@dol.gov; 202-693-3338; FAX: 202-693-2879.

VIII. Other Information

Potential applicants may obtain further information on the WIA section 166 program for employment and training of Native Americans through the website for DOL's Division of Indian and Native American Programs: http://wdsc.doleta.gov/dinap/. Any information submitted in response to this SGA will be subject to the provisions of the Privacy Act and the Freedom of Information Act, as appropriate. The Department of Labor is not obligated to make any awards as a result of this SGA, and only the Grant Officer can bind the Department to the provision of funds under WIA section 166. Unless specifically provided in the grant agreement, DOL's acceptance of a proposal and/or award of Federal funds do not waive any grant requirements and/or procedures.

Signed at Washington, DC, this 22nd day of December, 2003.
Emily Stover DeRocco,
Assistant Secretary, Employment and Training Administration.

Exhibit A ¹

¹ Exhibit A is available on the DINAP Web site at http://wdsc.doleta.gov/dinap/.

BILLING CODE 4510-30-P

[FR Doc. 03-32126 Filed 12-30-03; 8:45 am]

BILLING CODE 4510-30-C